DEPARTMENT OF ENERGY

Federal Energy Regulatory Commission

[Docket No. EC04-14-000, et al.]

Eurus Combine Hills I LLC, et al.; Electric Rate and Corporate Filings

November 14, 2003.

The following filings have been made with the Commission. The filings are listed in ascending order within each docket classification.

1. Eurus Combine Hills I LLC

[Docket No. EC04-14-000]

Take notice that on November 5, 2003, Eurus Combine Hills I LLC (Eurus Combine), submitted an application pursuant to section 203 of the Federal Power Act, seeking authorization for a transaction that would result in the transfer of indirect control of certain transmission facilities associated with Eurus Combine's planned 41 MW wind farm located in Umatilla County, Oregon. Eurus requests expedited consideration of its application and certain waivers.

Eurus Combine states that the Transaction will have no effect on competition, rates or regulation and is in the public interest.

Comment Date: November 25, 2003.

2. Medford Energy, LLC

[Docket No. EG04-13-000]

On November 4, 2003, Medford Energy, LLC (Applicant), having its principal place of business at 2 Access Road Patchogue, New York 11772, filed with the Federal Energy Regulatory Commission (Commission) an application for determination of exempt wholesale generator status pursuant to part 365 of the Commission's regulations.

Comment Date: November 25, 2003.

3. Conexion Energetica Centroamericana, S.A.

[Docket No. EG04-14-000]

On November 5, 2003, Conexion Energetica Centroamericana, S.A., (Applicant) an entity organized under the laws of the Republic of Guatemala with its principal place of business at Diagonal 6 10-65, Zona 10, Centro Gerencial de Las Margaritas, Torre 1, Nivel 8 Oficina 801, Guatemala, Guatemala, 01010, filed with the Federal Energy Regulatory Commission an application for determination of exempt wholesale generator status pursuant to part 365 of the Commission's regulations.

Applicant owns and operates an approximately 43 megawatt hydroelectric power production facility located near the Municipality of Zunil in the Quetzaltenango District, in the Republic of Guatemala and operates a 14 megawatt hydroelectric power production facility located in the Municipality of San Jeronimo in the Baja Verapaz District, in the Republic of Guatemala.

Comment Date: November 25, 2003.

4. Generadora de Occidente, Limitada

[Docket EG04-15-000]

On November 5, 2003, Generadora de Occidente, Limitada, (Applicant) an entity organized under the laws of the Republic of Guatemala with its principal place of business at Diagonal 6 10-65, Zona 10, Centro Gerencial de Las Margaritas, Torre 1, Nivel 8 Oficina 801, Guatemala, Guatemala, 01010, filed with the Federal Energy Regulatory Commission an application for determination of exempt wholesale generator status pursuant to Part 365 of the Commission's regulations.

Applicant owns and operates an approximately 43 megawatt hydroelectric power production facility located near the Municipality of Zunil in the Quetzaltenango District, in the Republic of Guatemala.

Comment Date: November 25, 2003.

5. Devon Power LLC, Middletown Power LLC, Monteville Power LLC, Norwalk Power LLC and NRG Power Marketing Inc.

[Docket No. EL04-16-000]

Take notice that on November 5, 2003, Devon Power LLC, Middletown Power LLC, Montville Power LLC, and Norwalk Power LLC filed a Petition for Declaratory Order finding that the Reliability Cost Tracker mechanism under Section 5.1.3 of the COS Agreements is just and reasonable and not unduly discriminatory or unlawful, and that monies expended for reliability projects pursuant to Section 5.1.3 will not be subject to refund in the event the Reliability Cost Tracker is not extended for another year.

Comment Date: November 25, 2003.

6. Carville Energy LLC, Complainant v. Entergy Services, Inc., Respondent

[Docket No. EL04-20-000]

Take notice that on November 13, 2003, Carville Energy LLC filed a Complaint pursuant to section 206 of the Federal Power Act and Rule 206 of the Commission's Rules of Practice and Procedure, 18 CFR 385.206, against Entergy Services, Inc., seeking transmission credits with interest for network upgrade interconnection costs.

Comment Date: December 4, 2003.

7. Calpine Oneta Power, L.P., Complainant v. American Electric Power Service Corporation, Respondent

[Docket No. EL04-21-000]

Take notice that on November 13, 2003, Calpine Oneta Power, L.P. (Oneta) filed a Complaint pursuant to Section 206 of the Federal Power Act and Rule 206 of the Commission's Rule of Practice and Procedures, 18 CFR 385.206, against American Electric Power Service Corporation d/b/a Public Service Company of Oklahoma (PSO/AEP). Oneta alleges that PSO/AEP: (1) Unjustly and unreasonably assigned the costs of certain interconnection facilities to Oneta in violation of the Commission's precedent and policy; and (2) is implementing its transmission crediting policy in an unduly discriminatory manner contrary to the express terms of AEP's Open Access Transmission Tariff and Commission orders.

Comment Date: December 4, 2003.

8. Constellation Power Source, Inc.

[Docket No. ER97-2261-015]

Take notice that on November 4, 2003, Constellation Power Source, Inc. (CPS) filed with the Federal Energy Regulatory Commission (Commission) a notice of change in status under CPS market-based rate authority pursuant to section 205 of the Federal Power Act and the Commission's Order in Constellation Power Source, Inc., 79 FERC ¶ 61,167 (1997). CPS filed the notice in order to inform the Commission of new contractual services it will be providing.

Comment Date: November 25, 2003.

9. Onondaga Cogeneration Limited Partnership

[Docket No. ER00-895-001]

Take notice that on November 4, 2003, Onondaga Cogeneration Limited Partnership (Onondaga) tendered for filing with the Federal Energy Regulatory Commission (Commission) an updated market power analysis. This filing serves as the triennial market power update and report of change of status for Onondaga in Docket No. ER00-895-000.

Onondaga states it has served a copy of this filing on the Commission's official service list in this docket.

Comment Date: November 25, 2003.

10. Midwest Independent Transmission System Operator, Inc.

[Docket No. ER03-869-002]

Take notice that on November 5, 2003, the Midwest Independent Transmission System Operator, Inc. (Midwest ISO) tendered for filing a compliance filing pursuant to the Order issued on October 21, 2003 in Docket Nos. ER03-869-000 and ER03-869-001.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region and in addition, the filing has been electronically posted on the Midwest ISO's Web site at www.midwestiso.org under the heading “Filings to FERC” for other interested parties in this matter. The Midwest ISO will provide hard copies to any interested parties upon request.

Comment Date: November 26, 2003.

11. Pacific Gas and Electric Company

[Docket No. ER03-1091-002]

Take notice that on November 5, 2003, Pacific Gas and Electric Company (PG&E) tendered for filing a Request for Deferral of Consideration of its “Notice of Termination” dated September 5, 2003, in Docket No. ER03-1091-000, with respect to a generator special facilities agreement between PG&E and Duke Energy Morro Bay, LLC.

PG&E also states that there are five other generators whose interconnection-related agreements are pending in this proceeding.

PG&E states that copies of this filing have been served upon the California Public Utilities Commission and all parties designated on the official service list in this proceeding.

Comment Date: November 26, 2003.

12. Golden Spread Electric Cooperative, Inc.

[Docket No. ER04-70-001]

Take notice that on November 4, 2003, Golden Spread Electric Cooperative, Inc. (Golden Spread) filed amendments to Rider A of Schedule A and to Rider A of Schedule B of Golden Spread's Rate Schedule Numbers 23 through 33.

Comment Date: November 25, 2003.

13. Mid-Continent Area Power Pool

[Docket No. ER04-155-000]

Take notice that on November 4, 2003, the Mid-Continent Area Power Pool (MAPP), tendered for filing an amendment to § 21.2 of Schedule F, which governs modifications of transmission service on a firm basis.

MAPP states that a copy of this filing has been served on all MAPP members and the state commissions in the MAPP region. The filing has also been posted on the MAPP Web site at http://www.mapp.org.

Comment Date: November 25, 2003.

14. The Allegheny Power System Operating Companies: Monongahela Power Company, The Potomac Edison Company, and West Penn Power Company, all doing business as Allegheny Power; The PHI Operating Companies: Potomac Electric Power Company, Delmarva Power & Light Company, and Atlantic City Electric Company; Baltimore Gas and Electric Company; Jersey Central Power & Light Company; Metropolitan Edison Company; Pennsylvania Electric Company; PECO Energy Company; PPL Electric Utilities Corporation; Public Service Electric and Gas Company; Rockland Electric Company; and UGI Utilities, Inc.

[Docket Nos. ER04-156-000 and ER04-156-001]

Take notice that on November 4, 2003, The Allegheny Power System Operating Companies: Monongahela Power Company, The Potomac Edison Company, and West Penn Power Company, all doing business as Allegheny Power; The PHI Operating Companies: Potomac Electric Power Company, Delmarva Power & Light Company, and Atlantic City Electric Company; Baltimore Gas and Electric Company; Jersey Central Power & Light Company; Metropolitan Edison Company; Pennsylvania Electric Company; PECO Energy Company; PPL Electric Utilities Corporation; Public Service Electric and Gas Company; Rockland Electric Company; and UGI Utilities, Inc. (Transmission Owners), tendered for filing a new Schedule 12A to the Open Access Transmission Tariff (OATT) of PJM Interconnection, L.L.C. (PJM). Also on November 5, 2003, the Transmission Owners tendered for filing additional supporting exhibits to be included in the November 4 filing. The new schedule, with accompanying sub-schedules, establishes annual carrying charge rates for each of the named Transmission Owners for transmission investments that they make pursuant to PJM's Regional Transmission Expansion Plan. The filing complements the provisions of Schedule 12 of the PJM OATT that are implemented by PJM.

The Transmission Owners propose to make the new Schedule 12A provisions effective 60 days after filing, on January 4, 2004.

The Allegheny Power System Companies state that copies of the filing were served upon PJM and each state public utility commission in the PJM region. In addition, the Transmission Owners requested that PJM post the filing on its Web site, www.PJM.com.

Comment Date: November 25, 2003.

15. Midwest Independent Transmission System Operator, Inc.

[Docket No. ER04-158-000]

Take notice that on November 5, 2003, the Midwest Independent Transmission System Operator, Inc. (Midwest ISO) submitted for filing its Request for Authorization on behalf of Michigan Electric Transmission Company, LLC (METC) for reimbursement under Schedule 10 of the Midwest ISO Open Access Transmission Tariff.

The Midwest ISO has also requested waiver of the service requirements set forth in 18 CFR 385.2010. The Midwest ISO states it has electronically served a copy of this filing, with attachments, upon all Midwest ISO Members, Member representatives of Transmission Owners and Non-Transmission Owners, the Midwest ISO Advisory Committee participants, as well as all state commissions within the region and in addition, the filing has been electronically posted on the Midwest ISO's Web site at www.midwestiso.org under the heading “Filings to FERC” for other interested parties in this matter. The Midwest ISO will provide hard copies to any interested parties upon request.

Comment Date: November 26, 2003.

16. Southern California Edison Company

[Docket No. ER04-159-000]

Take notice that on November 5, 2003, Southern California Edison Company (SCE) tendered for filing revised rate sheets (Revised Sheets) to the Agreement For Interconnection Service and the Interconnection Facilities Agreement between SCE and Harbor Cogeneration Company (Harbor), Service Agreement Nos. 2 and 9 under SCE's FERC Electric Tariff, First Revised Volume No. 6. SCE requests an effective date of October 31, 2003.

SCE states that the Revised Sheets to these agreements reflect an extension of their terms and conditions to provide interconnection service to Harbor's 110 MW generating facility through November 30, 2003. SCE further states that copies of this filing were served upon the Public Utilities Commission of the State of California and Harbor.

Comment Date: November 26, 2003.

17. Northern Indiana Public Service Company

[Docket No. ER04-162-000]

Take notice that on November 5, 2003, Northern Indiana Public Service Company (NIPSCO) tendered for filing revisions to its Open Access Transmission Tariff (OATT) and notices of cancellation of certain Point-to-Point Transmission Service agreements. NIPSCO seeks an effective date of October 1, 2003, for these revisions to its OATT and notice of cancellation. NIPSCO states that this filing is being made because, as of October 1, 2003, NIPSCO transferred functional control of its transmission facilities to GridAmerica LLC (GridAmerica), an independent transmission company (ITC) under Appendix I to the OATT of the Midwest Independent Transmission System Operator, Inc. (Midwest ISO).

NIPSCO has requested any waivers necessary to permit its revised OATT and the notices of cancellation to become effective October 1, 2003.

Comment Date: November 26, 2003.

18. Front Range Energy Associates, L.L.C.

[Docket No. ER04-163-000]

Take notice that on November 5, 2003, Front Range Energy Associates, L.L.C. (Front Range Energy) submitted for filing a Notice of Cancellation of its Market-based Rate Tariff. Front Range Energy states that it is an inactive company and requests the cancellation be effective immediately.

Comment Date: November 26, 2003.

19. GulfStream Energy, LLC

[Docket No. ER04-164-000]

Take notice that on November 5, 2003, Gulfstream Energy, LLC, tendered for filing a Notice of Cancellation of its Market-based Rate Tariff and requested an effective date of November 4, 2003. Gulfsteam Energy, LLC states that it has never done any business or trading of energy or other products or services.

Comment Date: November 26, 2003.

20. LG&E Energy Marketing Inc.

[Docket No. ER04-166-000]

Take notice that on November 5, 2003, LG&E Energy Marketing Inc. (LEM) submitted for filing with the Commission an executed Operating Assumptions and Practices Agreement (Agreement) between LEM and Big Rivers Electric Corporation (BREC).

LEM requests the Agreement to be accepted for filing effective July 1, 2003, and requests waiver of the Commission's notice requirements in order for the Agreement to be accepted for filing on the date requested.

Comment Date: November 26, 2003.

21. FPL Energy VG Repower Wind, LLC

[Docket No. ER04-167-000]

Take notice that on November 5, 2003, FPL Energy VG Repower Wind, LLC tendered for filing an application for authorization to sell energy, capacity, and ancillary services at market-based rates pursuant to Section 205 of the Federal Power Act.

Comment Date: November 26, 2003.

22. FPL Energy 251 Wind, LLC

[Docket No. ER04-168-000]

Take notice that on November 5, 2003, FPL Energy 251 Wind, LLC tendered for filing an application for authorization to sell energy, capacity, and ancillary services at market-based rates pursuant to section 205 of the Federal Power Act.

Comment Date: November 26, 2003.

23. Midwest Generation EME, LLC, Complainant; Commonwealth Edison Company and Exelon Generation Company, LLC, Respondents

[Docket Nos. ER04-190-000 and Docket No. EL04-22-000]

Take notice that on November 13, 2003, Midwest Generation EME, LLC (MWGen) tendered for filing, under section 205 of the Federal Power Act (FPA), a tariff for Reactive Supply and Voltage Control from Generation Sources Service (Reactive Power) service provided to the transmission facilities controlled by Commonwealth Edison Company (ComEd) and filed a conditional complaint requesting fast track processing under section 206 of the FPA against ComEd and Exelon Generation Company, LLC (Exelon Generation). MWGen requests that the Commission accept for filing its FERC Electric Tariff, Original Volume No. 3 (Tariff) to become effective on January 1, 2004 for the collection of Reactive Power rates from ComEd. MWGen alleges in its conditional complaint that ComEd has improperly allocated all of the revenues ComEd receives from transmission customers for Reactive Power to its affiliate, Exelon Generation, which is unduly discriminatory and in violation of sections 205 and 206 of the FPA and Commission policy. MWGen states that if the Commission accepts MWGen's Tariff without change and without setting it for hearing, then MWGen does not require the relief requested in this conditional complaint and therefore withdraws it. However, if the Commission sets MWGen's Tariff for hearing or does not accept it as proposed, then MWGen requests that the Commission conduct a hearing regarding ComEd's Reactive Power payments to Exelon Generation and require ComEd to compensate MWGen for Reactive Power to the same degree that it compensates its affiliate, Exelon Generation.

MWGen states that it has served a copy of this filing on ComEd, Exelon Generation and the Illinois Commerce Commission.

Comment Date: December 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00353 Filed 11-20-03; 8:45 am]

BILLING CODE 6717-01-P